DEPARTMENT OF HOUSING AND URBAN DEVELOPMENT

[Docket No. FR-5831-N-45]

30-Day Notice of Proposed Information Collection: Evaluation of the Section 811 Project Rental Assistance Program, Phase I

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: November 4, 2015.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QMAC, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

The Federal Register notice that solicited public comment on the information collection for a period of 60 days was published on July 1, 2015 at 80 FR 37649.

A. Overview of Information Collection

Title of Information Collection: Evaluation of the Section 811 Project Rental Assistance Program, Phase I.

OMB Approval Number: 2528-NEW.

Type of Request: New collection.

Form Number: N/A.

Description of the need for the information and proposed use: The Office of Policy Research and Development, U.S. Department of Housing and Urban Development (HUD), is proposing a data collection activity as part of the evaluation of the Section 811 Supportive Housing for Persons with Disabilities (Section 811) Project Rental Assistance (PRA) Program. The Section 811 PRA Program is a new model of housing assistance authorized in 2010 that provides project-based rental assistance to state housing agencies for the development of supportive housing for extremely low-income persons with disabilities. Housing agencies must have a formal partnership with the state health and human service agency and/or the state Medicaid provider to provide services and supports directly to residents living in units funded with Section 811 PRA.

The Section 811 PRA program authorizing statute requires HUD to describe the assistance under the program, to analyze its effectiveness, and propose recommendations for future assistance under Section 811. HUD is implementing a two-phase evaluation of the Section 811 PRA program. The first phase of the evaluation is focused on a process evaluation that will describe the implementation of the program in the first 12 states awarded Section 811 PRA funds. The second phase will evaluate the program effectiveness and its impact on residents. This request for OMB clearance covers the first phase of the evaluation. Data collection includes in-person interviews with staffs at state agencies, (housing, health and human services and state Medicaid providers) and Section 811 PRA partner agencies (property owners or managers of properties where Section 811 PRA participants live and staff at organizations that provide supportive services to PRA participants). The purpose of the interviews is to document the implementation experience of the Section 811 PRA program.

Respondents (describe): State housing agencies, state health and human service and/or Medicaid provider agencies, and Section 811 PRA partner agencies in twelve grantee states.

Estimated Number of Respondents: A total of 79 participants will participate in the process evaluation interviews across the 12 grantee sites. Twelve participants are state housing agencies implementing the Section 811 PRA program; twelve participants are Medicaid and/or health and human services agencies; and fifty five participants are Section 811 PRA partner agencies.

Estimated Number of Responses: 79 responses.

Frequency of Response: Once.

Average Hours per Response and Total Estimated Burdens: Interviews with state housing agency representatives will take an average of 6 hours. Interviews with health and human services or Medicaid agency representatives and other state agency partners will take an average of 6 hours each. The estimated number of hours for the grantee, health and human services or Medicaid partner, and other state agency may be spread across multiple respondents if more than one person is responsible for distinct activities related to the Section 811 PRA program.

We will complete as much as the interview protocol as possible in advance of the site visit from available data sources including the 2012 Section 811 PRA application for funding, quarterly grantee reports, and HUD administrative data. Interviews will be conducted orally and grantees will not be asked to provide written responses to any interview query. Prior to the interviews, we will conduct screening calls with each grantee to tailor the conversations and identify participants to include in the process interviews.

The length of interviews with partner organizations will vary based on the roles they have in the Section 811 PRA program. We expect the interviews to take between 120 and 180 minutes based on the responsibilities of each partner.

For the state housing agency staff and state health and human service agency or state Medicaid agency staff, researchers will administer interviews on the implementation of the Section 811 PRA Demonstration for an average of six hours. An additional 2 hours will be needed for agency staff to compile material needed on the PRA program in order to answer the research questions. The total burden for state housing agency and Medicaid respondents is 192 hours. The average interview for PRA Demonstration partner agency/property owner staff is 90 minutes long, with an additional hour to compile information needed to complete the answers to the interview questions. The total burden for all Section 811 PRA program participants is 329.5 hours.

Respondents | Number of respondents | Frequency of response | Average burden/ response (hours) | Average burden/ data collection (hours) | Total estimated burden (hours)
State housing agencies implementing Section 811 PRA | 12 | 1 | 6 | 2 | 96
Medicaid agencies implementing Section 811 PRA | 12 | 1 | 6 | 2 | 96
Section 811 PRA Partner Agencies | 55 | 1 | 1.5 | 1 | 137.5
Total | 79 |  |  |  | 329.5

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: 12 U.S.C. 1701z-1 Research and Demonstrations.

Dated: September 29, 2015.
Colette Pollard,
Department Reports Management Officer, Office of the Chief Information Officer.

[FR Doc. 2015-25283 Filed 10-2-15; 8:45 am]

BILLING CODE 4210-67-P